DEPARTMENT OF HOMELAND SECURITY

Federal Emergency Management Agency

[Docket ID: FEMA-2015-0010; OMB No. 1660-0070]

Agency Information Collection Activities: Submission for OMB Review; Comment Request; National Fire Department Census

AGENCY: Federal Emergency Management Agency, DHS.

ACTION: Notice.

SUMMARY: The Federal Emergency Management Agency, as part of its continuing effort to reduce paperwork and respondent burden, invites the general public and other Federal agencies to take this opportunity to comment on a proposed extension, without change, of a currently approved collection. In accordance with the Paperwork Reduction Act of 1995, this notice seeks comments concerning the use of a form to collect data for the development and continuation of the National Fire Department Census.

DATES: Comments must be submitted on or before August 26, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on May 6, 2015 at 80 FR 26071 with a 60 day public comment period. No comments were received. The purpose of this notice is to notify the public that FEMA will submit the information collection abstracted below to the Office of Management and Budget for review and clearance.

Collection of Information

Title: National Fire Department Census.

Type of information collection: Extension, without change, of a currently approved information collection.

OMB Number: 1660-0070.

Form Titles and Numbers: FEMA Form 070-0-0-1, National Fire Department Census.

Abstract: This collection seeks to identify fire departments in the United States to compile and update a database related to their demographics, capabilities, and activities. The database is used to guide programmatic decisions and provide information to the public and the fire service.

Affected Public: State, Local, or Tribal Government.

Estimated Number of Respondents: 8,280.

Estimated Total Annual Burden Hours: 2,093 hours.

Estimated Cost: The estimated annual cost to respondents for the hour burden is $10,072. The estimated annual cost to respondents operations and maintenance costs for technical services is $0. There are no annual start-up or capital costs. The cost to the Federal government is $88,866.

Dated: July 16, 2015.
Janice Waller,
Acting, Director, Records Management Division, Mission Support Bureau, Federal Emergency Management Agency, Department of Homeland Security.

[FR Doc. 2015-18273 Filed 7-24-15; 8:45 am]

BILLING CODE 9111-45-P